DEPARTMENT OF TRANSPORTATION

Federal Aviation Administration

14 CFR Parts 121, 125, 135, and 145

[Docket No. 28293 (FAA-2000-7952); Amendment No. 121-284, 125-37, 135-81 and 145-26]

RIN 2120-AF71

Service Difficulty Reports

AGENCY: Federal Aviation Administration, DOT.

ACTION: Final rule; delay of effective date.

SUMMARY: The Federal Aviation Administration (FAA) is further delaying the effective date of a final rule that amends the reporting requirements for air carriers and certificated domestic and foreign repair station operators concerning failures, malfunctions, and defects of aircraft, aircraft engines, systems, and components. This action was prompted by questions being raised by industry on the reporting in the new requirements.

DATES: The effective date of the rule amending 14 CFR parts 121, 125, 135, and 145 published at 65 FR 56192, September 15, 2000, is delayed until January 16, 2002.

FOR FURTHER INFORMATION CONTACT: Jose Figueroa, AFS-300, Federal Aviation Administration, 800 Independence Ave. SW., Washington, DC 20591, 202-267-3797.

SUPPLEMENTARY INFORMATION:

Background

The FAA requested that comments on the information collection requirements of the Service Difficulty Reporting (SDR) final rule (65 FR 56192, September 15, 2000) be submitted by November 14, 2000. The FAA has received extensive written comments on the SDR reporting requirements and duplicate reporting of certain failures, malfunctions, and defects. On November 30, 2000 (65 FR 71247), the FAA announced that a public meeting on this rulemaking would be held on December 11, 2000. As a result of this public meeting, novel issues were presented that the FAA was not aware of during the comment period to the supplemental notice of proposed rulemaking.

The SDR final rule, as published, had an effective date of January 16, 2001. On December 22, 2000, (65 FR 80743), the FAA published a notice of delay of the effective date of the final rule. In that notice, the effective date of the final rule was delayed until July 16, 2001.

The FAA has determined that it will need more time to further evaluate the commenter's concerns. Therefore, the FAA is delaying the effective date of the final rule until January 16, 2002. The existing rules will remain in effect until the new effective date.

Since this delay of the effective date is not a new requirement and does not impose any additional burden, I find that notice and public procedures thereon are unnecessary and that good cause exists for extending the effective date on less than 30 days notice.

Issued in Washington DC, on April 24, 2001.
Jane F. Garvey,
Administrator.

[FR Doc. 01-10567 Filed 4-27-01; 8:45 am]

BILLING CODE 4910-13-M